DEPARTMENT OF AGRICULTURE

Animal and Plant Health Inspection Service

[Docket No. APHIS-2013-0017]

Notice of Availability of a Pest Risk Analysis for Interstate Movement of Sapote Fruit From Puerto Rico Into the Continental United States

AGENCY: Animal and Plant Health Inspection Service, USDA.

ACTION: Notice of availability.

SUMMARY: We are advising the public that we have prepared a pest risk analysis that evaluates the risks associated with the interstate movement into the continental United States of fresh sapote fruit from Puerto Rico. Based on that analysis, we believe that the application of one or more designated phytosanitary measures will be sufficient to mitigate the risks of introducing or disseminating plant pests or noxious weeds via the interstate movement of sapote fruit from Puerto Rico. We are making the pest risk analysis available to the public for review and comment.

DATES: We will consider all comments that we receive on or before June 24, 2013.

ADDRESSES: You may submit comments by either of the following methods:

• Federal eRulemaking Portal: Go to http://www.regulations.gov/#!documentDetail;D=APHIS-2013-0017-0001.

• Postal Mail/Commercial Delivery: Send your comment to Docket No. APHIS-2013-0017, Regulatory Analysis and Development, PPD, APHIS, Station 3A-03.8, 4700 River Road Unit 118, Riverdale, MD 20737-1238.

Supporting documents and any comments we receive on this docket may be viewed at http://www.regulations.gov/#!docketDetail;D=APHIS-2013-0017 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David Lamb, Regulatory Policy Specialist, PPQ, APHIS, 4700 River Road Unit 133, Riverdale, MD 20737-1231; (301) 851-2103.

SUPPLEMENTARY INFORMATION:

Background

Under the regulations in “Subpart—Regulated Articles From Hawaii and the Territories” (7 CFR 318.13-1 through 318.13-26, referred to below as the regulations), the Animal and Plant Health Inspection Service (APHIS) of the U.S. Department of Agriculture prohibits or restricts the interstate movement of fruits and vegetables into the continental United States from Hawaii, Puerto Rico, the U.S. Virgin Islands, Guam, and the Commonwealth of the Northern Mariana Islands to prevent plant pests and noxious weeds from being introduced into and spread within the continental United States. (The continental United States is defined in § 318.13-2 of the regulations as the 48 contiguous States, Alaska, and the District of Columbia.)

Section 318.13-4 contains a performance-based process for approving the interstate movement of commodities that, based on the findings of a pest risk analysis, can be safely moved subject to one or more of the designated phytosanitary measures listed in paragraph (b) of that section.

APHIS received a request from tropical fruit growers in Puerto Rico to allow the interstate movement of fresh sapote fruit (Pouteria sapota) from Puerto Rico to the continental United States. We have completed a pest risk assessment to identify pests of quarantine significance that could follow the pathway of interstate movement into the continental United States and, based on that pest risk assessment, have prepared a risk management document to identify phytosanitary measures that could be applied to the commodity to mitigate the pest risk. We have concluded that sapote fruit can be safely moved from Puerto Rico to the continental United States using one or more of the six designated phytosanitary measures listed in § 318.13-4(b). The measures under which sapote fruit may be moved from Puerto Rico to the continental United States are:

• Inspection in Puerto Rico; and

• Movement of the sapote fruit as commercial consignments only.

Therefore, in accordance with § 318.13-4(c), we are announcing the availability of our pest risk assessment and risk management document for public review and comment. The documents may be viewed on the Regulations.gov Web site or in our reading room (see ADDRESSES above for instructions for accessing Regulations.gov and information on the location and hours of the reading room). You may request paper copies of the pest risk analysis by calling or writing to the person listed under FOR FURTHER INFORMATION CONTACT. Please refer to the subject of the pest risk analysis when requesting copies.

After reviewing the comments we receive, we will announce our decision regarding the interstate movement of sapote fruit from Puerto Rico to the continental United States in a subsequent notice. If the overall conclusions of the analysis and the Administrator's determination of risk remain unchanged following our consideration of the comments, then we will begin allowing the interstate movement of sapote fruit from Puerto Rico to the continental United States subject to the requirements specified in the risk management document.

Authority: 7 U.S.C. 7701-7772 and 7781-7786; 7 CFR 2.22, 2.80, and 371.3.

Done in Washington, DC, this 18th day of April 2013.
Kevin Shea,
Acting Administrator, Animal and Plant Health Inspection Service.

[FR Doc. 2013-09735 Filed 4-23-13; 8:45 am]

BILLING CODE 3410-34-P